DEPARTMENT OF TRANSPORTATION

Federal Aviation Administration

RTCA Special Committee 181/EUROCAE Working Group 13: Standards of Navigation Performance

AGENCY: Federal Aviation Administration (FAA), DOT.

ACTION: Notice of RTCA Special Committee 181/EUROCAE Working Group 13 meeting.

SUMMARY: The FAA is issuing this notice to advise the public of a meeting of RTCA Special Committee 181/EUROCAE Working Group 13: Standards of Navigation Performance.

DATES: The meeting will be held June 3-6, 2003 starting at 9 a.m.

ADDRESSES: The meeting will be held at the RTCA Inc., Suite 805, 1828 L Street, NW., Washington, DC 20036.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 181/EUROCAE Working Group 13 meeting. Note: Working Groups 1 & 4 will meet separately June 3-5. The Plenary agenda will include:

• June 6:

• Opening Plenary Session (Chairman Remarks, Review/Approval of Previous Meeting Minutes)

• Review Working Group (WG) Progress and Identify Issues for Resolution

• WG-1 Report

• WG-4 Report

• Review/Approval—Proposed Final Draft DO-236B

• Review/Approval—Proposed Final Draft DO-283A

• Status DO-257A

• Assignment/Review of Future Work

• Closing Plenary Session (New Business, Review of Action Items, Future Meeting Schedule, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 20, 2003.
Jane Caldwell,
Program Director, System Engineering Resource Management.

[FR Doc. 03-13154 Filed 5-23-03; 8:45 am]

BILLING CODE 4910-13-M